ENVIRONMENTAL PROTECTION AGENCY

[FRL-9769-1]

Notice of Administrative Settlement Agreement for Recovery of Past and Future Response Costs Pursuant to the Comprehensive Environmental Response, Compensation, and Liability Act of 1980, as Amended

AGENCY: Environmental Protection Agency (EPA).

ACTION: Notice; request for public comment.

SUMMARY: In accordance with the Comprehensive Environmental Response, Compensation, and Liability Act (“CERCLA”), notice is hereby given that a proposed administrative settlement agreement for recovery of past and future response costs (“Proposed Agreement”) associated with the DuPont-Newport Superfund Site, Newcastle County, Delaware, was executed by the Environmental Protection Agency (“EPA”) and by the United States Department of Justice (“DOJ”) pursuant to the authority of the Attorney General of the United States to settle and compromise claims of the United States. The Proposed Agreement is now subject to public comment, after which EPA and DOJ may modify or withdraw their consent if comments received disclose facts or considerations that indicate that the Proposed Agreement is inappropriate, improper, or inadequate. The Proposed Agreement would resolve potential EPA claims under Section 107(a) of CERCLA, against E.I. DuPont de Nemours and Company and BASF Corporation (“Settling Parties”). The Proposed Agreement would require Settling Parties to reimburse EPA $178,646.09 for past response costs paid by EPA or DOJ on behalf of EPA and to pay future response costs for the Site.

For thirty (30) days following the date of publication of this notice, EPA will receive written comments relating to the Proposed Agreement. EPA's response to any comments received will be available for public inspection at the U.S. Environmental Protection Agency, Region III, 1650 Arch Street, Philadelphia, PA 19103.

DATES: Comments must be submitted on or before February 8, 2013.

ADDRESSES: The Proposed Agreement and additional background information relating to the Proposed Agreement are available for public inspection at the U.S. Environmental Protection Agency, Region III, 1650 Arch Street, Philadelphia, PA 19103. A copy of the Proposed Agreement may be obtained from Mary E. Rugala (3RC43), Senior Assistant Regional Counsel, U.S. Environmental Protection Agency, 1650 Arch Street, Philadelphia, PA 19103. Comments should reference the “DuPont-Newport Superfund Site, Proposed Administrative Settlement Agreement for Recovery of Past and Future Response Costs” and “EPA Docket No. CERC-03-2013-0003CR,” and should be forwarded to Mary E. Rugala at the above address.

FOR FURTHER INFORMATION CONTACT: Mary E. Rugala (3RC43), U.S. Environmental Protection Agency, 1650 Arch Street, Philadelphia, PA 19103, Phone: (215) 814-2686; rugala.mary@epa.gov

Dated: December 18, 2012.
Ronald J. Borsellino,
Director, Hazardous Site Cleanup Division, U.S. Environmental Protection Agency, Region III.

[FR Doc. 2013-00250 Filed 1-8-13; 8:45 am]

BILLING CODE 6560-50-P